DEPARTMENT OF AGRICULTURE

Office of the Secretary

7 CFR Part 2

RIN 0503-AA43

Revision of Delegation of Authority

AGENCY: Office of the Secretary, USDA.

ACTION: Final rule.

SUMMARY: This document amends the delegation of authority from the U.S. Department of Agriculture's Under Secretary for Marketing and Regulatory Programs (MRP) to the Deputy Under Secretary for MRP to establish the order in which a Deputy Under Secretary may perform the duties and exercise the powers of the Under Secretary during the absence or unavailability of the Under Secretary when there is more than one Deputy Under Secretary.

DATES: Effective Date: December 21, 2010.

FOR FURTHER INFORMATION CONTACT: Ms. Karen Grillo, Chief of Staff, Marketing and Regulatory Programs, USDA, 1400 Independence Avenue, SW., Washington, DC 20250; 202-7204-256.

SUPPLEMENTARY INFORMATION: Pursuant to 7 CFR 2.77, the Under Secretary for Marketing and Regulatory Programs (MRP) has delegated to the Deputy Under Secretary for MRP the following authority, to be exercised only during the absence or unavailability of the Under Secretary: Perform all the duties and exercise all the powers which are now or which may hereafter be delegated to the Under Secretary. This final rule amends 7 CFR 2.77 to establish the order in which a Deputy Under Secretary may exercise that delegation when the MRP mission area has more than one Deputy Under Secretary. The authority shall be exercised by the respective Deputy Under Secretary in the order in which he or she has taken office as the Deputy Under Secretary.

This rule relates to internal agency management. Therefore, this rule is exempt from the provisions of Executive Orders 12866 and 12988. Moreover, pursuant to 5 U.S.C. 553, notice of proposed rulemaking and opportunity for comment are not required for this rule, and it may be made effective less than 30 days after publication in the Federal Register. In addition, under 5 U.S.C. 804, this rule is not subject to congressional review under the Small Business Regulatory Enforcement Fairness Act of 1996, Public Law 104-121. Finally, this action is not a rule as defined by 5 U.S.C. 601 et seq., the Regulatory Flexibility Act, and thus is exempt from the provisions of that Act.

List of Subjects in 7 CFR Part 2

Authority delegations (Government agencies).

Accordingly, 7 CFR part 2 is amended as follows:

PART 2—DELEGATIONS OF AUTHORITY BY THE SECRETARY OF AGRICULTURE AND GENERAL OFFICERS OF THE DEPARTMENT

1. The authority for part 2 continues to read as follows:

Authority: 7 U.S.C. 6912(a)(1); 5 U.S.C. 301; Reorganization Plan No. 2 of 1953, 3 CFR 1949-1953 Comp., p. 1024.

Subpart N—Delegations of Authority by the Under Secretary for Marketing and Regulatory Programs

2. Section 2.77 is revised to read as follows:

§ 2.77 Deputy Under Secretary for Marketing and Regulatory Programs.

Pursuant to § 2.22(a), subject to reservations in § 2.22(b), and subject to policy guidance and direction by the Under Secretary, the following delegation of authority is made by the Under Secretary for Marketing and Regulatory Programs to the Deputy Under Secretary for Marketing and Regulatory Programs, to be exercised only during the absence or unavailability of the Under Secretary: Perform all the duties and exercise all the powers which are now or which may hereafter be delegated to the Under Secretary for Marketing and Regulatory Programs: Provided, that this authority shall be exercised by the respective Deputy Under Secretary in the order in which he or she has taken office as a Deputy Under Secretary.

Dated: December 2, 2010.
Edward Avalos,
Under Secretary, Marketing and Regulatory Programs.

[FR Doc. 2010-31942 Filed 12-20-10; 8:45 am]

BILLING CODE 3410-90-P